DEPARTMENT OF HEALTH AND HUMAN SERVICES

[Document Identifier: OS-0990-; 30-Day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office at (202) 690-5683. Send written comments and recommendations for the proposed information collections within 30 days of this notice directly to the OS OMB Desk Officer; faxed to OMB at 202-395-5806.

Proposed Project: Evaluate the Advancing Systems Improvements to Support Targets for Healthy People 2010 (ASIST2010) Program—OMB No. 0990-NEW—Office on Women's Health.

Abstract: The Office on Women's Health is collecting data from 13 funded grantees and clients participating in ASIST2010, a three-year, cooperative agreement program. ASIST2010 uses a public health systems approach to improve performance on two or more of seven Healthy People 2010 (HP 2010) objectives that target women and/or men in six focus areas—cancer, diabetes, heart disease and stroke, access to quality health services, educational and community-based programs, nutrition and overweight, and physical activity and fitness. The goals of the ASIST2010 program are to: (1) Provide additional support to existing public health systems/collaborative partnerships to enable them to add a gender focus to HP 2010 objectives that track the health status of women and/or men, to help improve gender outcome in the targeted population and/or geographic area; (2) improve surveillance/information systems that allow tracking of program progress on HP 2010 objectives at the grantee level; and (3) develop and implement a plan to sustain the program after OWH funding ends. The sites participating in the ASIST2010 program represent four academic medical centers, three community-based organizations, two hospitals, two state health departments, one county health department, and one foundation.

Estimated Annualized Burden Hours
Type of respondent | Form name | Number of respondents | Number of responses per respondent | Avg. burden per response (in hours) | Total burden (in hours)
Grantee Staff | Grantee Telephone Interview Protocol (Round 1) | 65 | 3 | 1 | 195
| Site Visit Advance Letter
| Site Visit Protocol
| Grantee Telephone Interview Protocol (Round 2)
Partner Organization Staff (In-person interviews) | Site Visit Protocol | 52 | 1 | 1 | 52
Consumers (In-person interviews) | Site Visit Protocol | 18 | 1 | 1 | 18
Consumers (Focus groups) | Focus Group Advance Letter | 40 | 1 | 1.5 | 60
| Focus Group Flyer
| Consumer Focus Group Discussion Guide
Comparison Organization Staff (Telephone Interviews) | 10 | 1 | 1 | 10 | Advance Letter for Comparison Organizations
| Comparison Organization Interview Protocol
Total |  |  |  |  | 335

Seleda Perryman,
Office of the Secretary, Paperwork Reduction Act Reports Clearance Officer.

[FR Doc. E9-19515 Filed 8-13-09; 8:45 am]

BILLING CODE 4150-33-P